DEPARTMENT OF THE INTERIOR

Fish and Wildlife Service

[FWS-R8-ES-2017-N078; FXES11140800000-178-FF08EVEN00]

General Conservation Plan for Oil and Gas Activities in Santa Barbara County, California; Notice of Intent To Prepare a Draft Environmental Analysis/Document; Initiation of Public Scoping Process

AGENCY: Fish and Wildlife Service, Interior.

ACTION: Notice of intent; request for comments.

SUMMARY: We, the U.S. Fish and Wildlife Service (Service), announce our intent to prepare a draft environmental analysis/document under the National Environmental Policy Act, as amended (NEPA), for the proposed issuance of an incidental take permit (ITP) under section 10(a)(1)(B) of the Endangered Species Act of 1973, as amended (ESA), for the draft General Conservation Plan for Oil and Gas Activities in Santa Barbara County (GCP). The GCP is being developed to streamline environmental permitting and compliance with the ESA for proponents engaged in geophysical exploration (seismic), development, extraction, storage, transport, remediation, and/or distribution of crude oil, natural gas, and/or other petroleum products, and construction, maintenance, operation, repair, and decommissioning of oil and gas pipelines and well field infrastructure. The GCP is a conservation plan as required under the ESA for issuance of incidental take permits. Participation in the GCP would be voluntary. ITP holders would be authorized for incidental take of threatened and endangered wildlife species that could result from the activities covered under the GCP. The GCP would include conservation measures for an endangered plant species that would also be covered under the plan. We also are announcing the initiation of a public scoping process to engage Federal, tribal, State, and local governments and the public in the identification of issues and concerns, potential impacts, and possible alternatives to the proposed action. The Service is inviting input regarding development of a draft environmental analysis/document, which will evaluate the impacts to the human environment associated with issuance of ITPs and implementation of the GCP and alternatives.

DATES: In order to be included in the analysis, all comments must be received or postmarked on or before September 1, 2017.

ADDRESSES: Please provide comments in writing, by one of the following methods:

• Email: rachel_henry@fws.gov;

• Facsimile: 805-644-3958, Attn: VFWO GCP; or

• U.S. mail: Field Supervisor, Ventura Fish and Wildlife Office, U.S. Fish and Wildlife Service, 2493 Portola Road, Suite B, Ventura, CA 93101. Please specify that your information request or comments concern the VFWO GCP.

FOR FURTHER INFORMATION CONTACT: Rachel Henry, by U.S. mail (see ADDRESSES), or by phone at 805-677-3312. If you use a telecommunications device for the deaf (TDD), please call the Federal Information Relay Service at 800-877- 8339.

SUPPLEMENTARY INFORMATION: We, the U.S. Fish and Wildlife Service (Service), intend to prepare either a draft environmental analysis/document under the National Environmental Policy Act, as amended (42 U.S.C. 4321 et seq.; NEPA), for the proposed General Conservation Plan for Oil and Gas Activities in Santa Barbara County (GCP). The GCP is a conservation plan as required under the Endangered Species Act of 1973, as amended (16 U.S.C. 1539(c); ESA), for issuance of a 10(a)(1)(B) incidental take permit (ITP). Participation in the GCP and making an application for take authorization are voluntary. The proposed ITP would authorize the incidental take of threatened and endangered wildlife species that could result from the activities covered under the GCP, and would include conservation measures for an endangered plant species that also would be covered under the ITP. The GCP is being prepared by the Ventura Fish and Wildlife Office to address prospective activities that may be covered by the GCP. We also are announcing the initiation of a public scoping process to engage Federal, tribal, state, and local governments and the public in the identification of issues and concerns, potential impacts, and possible alternatives to the proposed action. The decision to prepare a draft environmental analysis/document will be, in part, contingent on the complexity of issues identified during, and following, the scoping phase of the NEPA process.

Background

Section 9 of the ESA and its implementing regulations prohibit “take” of fish and wildlife species listed as endangered or threatened (16 U.S.C. 1531-1544). Under section 3 of the ESA, the term “take” means to harass, harm, pursue, hunt, shoot, wound, kill, trap, capture, or collect, or to attempt to engage in any such conduct (16 U.S.C. 1532(19)). The term “harm” is further defined by regulation as an act that actually kills or injures wildlife. Such act may include significant habitat modification or degradation where it actually kills or injures wildlife by significantly impairing essential behavioral patterns, including breeding, feeding, or sheltering (50 CFR 17.3). The term “harass” is also further defined in the regulations as an intentional or negligent act or omission that creates the likelihood of injury to wildlife by annoying it to such an extent as to significantly disrupt normal behavioral patterns, which include, but are not limited to, breeding, feeding, or sheltering (50 CFR 17.3).

Under section 10(a)(1)(B) of the Act, the Secretary of the Interior may authorize the taking of federally listed wildlife species if such taking occurs incidental to otherwise legal activities and where a conservation plan has been developed under section 10(a)(2)(A) that describes: (1) The impact that will likely result from such taking; (2) the steps an applicant will take to minimize and mitigate that take to the maximum extent practicable and the funding that will be available to implement such steps; (3) the alternative actions to such taking that an applicant considered and the reasons why such alternatives are not being utilized; and (4) other measures that the Service may require as being necessary or appropriate for the purposes of the plan. Issuance criteria under section 10(a)(2)(B) for an incidental take permit require the Service to find that: (1) The taking will be incidental to otherwise lawful activities; (2) an applicant will, to the maximum extent practicable, minimize and mitigate the impacts of such taking; (3) an applicant has ensured that adequate funding for the plan will be provided; (4) the taking will not appreciably reduce the likelihood of the survival and recovery of the species in the wild; and (5) the measures, if any, we require as necessary or appropriate for the purposes of the plan will be met. Regulations governing permits for endangered and threatened species are at 50 CFR 17.22 and 17.32, respectively.

Public Scoping

A primary purpose of the scoping process is to receive suggestions and information on the scope of issues and alternatives to consider when drafting the environmental analysis/document, and to identify significant issues and reasonable alternatives related to the Service's proposed action (issuance of ITPs under the GCP). In order to ensure that we identify a range of issues and alternatives related to the proposed action, we invite comments and suggestions from all interested parties. We will conduct a review of this project according to the requirements of NEPA and its regulations, other relevant Federal laws, regulations, policies, and guidance, and our procedures for compliance with applicable regulations. Once the draft environmental analysis/document and draft GCP are prepared, we will offer further opportunities for public comment on the content of the NEPA document and the GCP through an appropriate public comment period.

Proposed Action

The proposed action is issuance of an incidental take permit for the covered species to proponents engaged in geophysical exploration (seismic), development, extraction, storage, transport, remediation, and/or distribution of crude oil, natural gas, and/or other petroleum products, and construction, maintenance, operation, repair, and decommissioning of oil and gas pipelines and well field infrastructure. The proposed GCP, which must meet the requirements in section 10(a)(2)(A) of the Act, would be developed by the Service and implemented by proponents that are issued ITPs under the plan. This will allow for a comprehensive mitigation approach for authorized impacts, which will result in more effective conservation, while at the same time providing a more efficient mechanism for permit processing for the Service and proponents.

Actions covered under the requested incidental take permit may include possible take of covered species associated with activities including, but not limited to, geophysical exploration (seismic), development, extraction, storage, transport, remediation, and/or distribution of crude oil, natural gas, and/or other petroleum products, and construction, maintenance, operation, repair, and decommissioning of oil and gas pipelines and well field infrastructure. The proposed permits would provide coverage for a period of the specified lifetime of each individual project permitted under the GCP. This proposed plan would not circumvent the need for project compliance with other permit requirements for oil and gas projects or other required approval processes that may include county hearings and local approval. The species covered under the requested incidental take permit are the California tiger salamander (Ambystoma californiense), California red-legged frog (Rana draytonii), and the Lompoc yerba santa (Eriodictyon capitatum).

Other Alternatives

We seek information regarding other reasonable alternatives during this scoping period and will evaluate the impacts associated with such alternatives in the draft environmental analysis/document.

Public Availability of Comments

Written comments we receive become part of the public record associated with this action. Before including your address, phone number, email address, or other personal identifying information in your comment, you should be aware that the entire comment—including your personal identifying information—may be made publicly available at any time. While you can ask us in your comment to withhold your personal identifying information from public review, we cannot guarantee that we will be able to do so. Comments and materials we receive, as well as supporting documentation we use in preparing the draft environmental analysis/document, will be available for public inspection, by appointment, during normal business hours at the Service's Ventura Fish and Wildlife Office in Ventura, California (see ADDRESSES, above).

Authority

We publish this notice in compliance with the NEPA and its implementing regulations (40 CFR 1501.7, 1506.6, and 1508.22), the Department of the Interior's NEPA implementing regulations at 43 CFR 46.235, and section 10(c) of the ESA.

Dated: July 26, 2017.
Stephen P. Henry,
Field Supervisor, Pacific Southwest Region, U.S. Fish and Wildlife Service.

[FR Doc. 2017-16249 Filed 8-1-17; 8:45 am]

BILLING CODE 4333-15-P